DEPARTMENT OF HOMELAND SECURITY

U.S. Customs and Border Protection

DEPARTMENT OF AGRICULTURE

Forest Service

Notice of intent to prepare a Joint Environmental Impact Statement and To Conduct Public Scoping

AGENCY: U.S. Customs and Border Protection, Department of Homeland Security and Forest Service, USDA.

ACTION: Notice of intent to prepare a Joint Environmental Impact Statement concerning the repair and maintenance of Bog Creek Road and closure of certain roads within the Blue-Grass Bear Management Unit in the Selkirk Mountains in Boundary County, Idaho; request for comments; and notice of public scoping.

SUMMARY: This notice announces that U.S. Customs and Border Protection (CBP) and the U.S. Forest Service (Forest Service) Idaho Panhandle National Forests (IPNF) (collectively the “Agencies”) intend to prepare a joint Environmental Impact Statement (EIS) to identify and assess potential impacts upon the environment of: Repairing and maintaining an approximately 5.6-mile section of the existing Bog Creek Road, which is located in the Selkirk Mountains in Boundary County, Idaho, within approximately two miles of the Canadian border, on land within the Blue-Grass Bear Management Unit (BMU) that is managed by the IPNF; and closing for motorized use additional roads within the Blue-Grass BMU to comply with the IPNF Forest Plan Amendments for Motorized Access Management within the Selkirk and Cabinet-Yaak Grizzly Bear Recovery Zones (Access Amendment) and reduce road density in the Blue-Grass BMU. This notice initiates the public scoping process for the preparation of the EIS. The purpose of the public scoping process is to solicit public comments regarding the potential environmental impacts that may be addressed. This notice commences the public scoping period for which CBP and IPNF are requesting written comments. This process is being conducted pursuant to the National Environmental Policy Act (NEPA), the Council on Environmental Quality Regulations for Implementing the NEPA (40 CFR parts 1500-1508), and CBP and Forest Service NEPA guidelines. Additionally, pursuant to Section 106 of the National Historic Preservation Act, the public scoping process will allow members of the general public to provide CBP and IPNF comments on potential impacts to historic and cultural resources for the proposed action.

DATES: The scoping comment period will be 30 days. To ensure consideration, comments must be received by May 27, 2016.

Comments may be submitted as set forth in the ADDRESSES section of this document. This project implements a land management plan and is subject to 36 CFR part 218, subparts A and B of the Forest Service's Project-level Predecisional Administrative Review Process. Pursuant to 36 CFR part 218, only those who provide specific, written comments regarding the proposed project will be eligible to file an objection.

ADDRESSES: Comments may be submitted either by mail or by email at the addresses indicated below. To avoid duplication, please use only one of the following methods to provide written comments:

(a) Via mail: Bog Creek Road EIS, P.O. Box 643, Flagstaff, Arizona, 86002-0643.

(b) Via email: SPWBogCreekEIS@cbp.dhs.gov.

FOR FURTHER INFORMATION CONTACT: Paul Enriquez, CBP, Border Patrol Facilities & Tactical Infrastructure Program Management Office, by telephone at (949) 643-6365, or by email at Paul.Enriquez@cbp.dhs.gov. You may also visit the CBP public Web site for more information at: http://www.cbp.gov/about/environmental-cultural-stewardship/nepa-documents/docs-review. Individuals who use telecommunication devices for the deaf (TDD) may call the Federal Information Relay Service (FIRS) at 1-800-877-8339 between 8 a.m. and 8 p.m., Eastern Time, Monday through Friday.

SUPPLEMENTARY INFORMATION:

Background

Repairs and Maintenance to Bog Creek Road

U.S. Customs and Border Protection (CBP) protects the nation's borders from terrorism, human and drug smuggling, illegal migration, and agricultural pests while facilitating the flow of legitimate travel and trade. CBP does so by integrating modern technology, deploying highly trained law enforcement personnel, and developing public and private sector partnerships that advance its overall mission.

At 5,500 miles in length, the Northern Border of the United States stands as the longest common border in the world. The terrain ranges from densely forested lands on the west and east coasts to open plains in the middle of the country. To complement its efforts, CBP uses partnerships with other Federal, state, and local law enforcement agencies to meet the challenges of ensuring security while facilitating legitimate trade and travel along this expansive and complex border area.

The primary road that provides east-west access to the Northern Border in the Selkirk Mountains of Northern Idaho is Bog Creek Road. Bog Creek Road is situated on National Forest System lands that are a part of the Idaho Panhandle National Forests (IPNF). The area is managed by the IPNF unit of the Forest Service (also referred to as IPNF). The road is currently impassable to most vehicles.

Bog Creek Road was closed on both ends in the late 1980s, to meet grizzly bear habitat requirements. As a result of the closure, the road has only been maintained on a limited basis. By the mid-1990s, the road had experienced minor failures. Around the year 2000, a large failure occurred when a large culvert failed due to heavy surface water runoff. At that time, the road became impassable to most vehicles. Currently, the road is gated at the east end and barricaded at the west end. In recent years, the road has been infrequently used by Forest Service and CBP personnel traveling on all-terrain vehicles (ATVs) and horseback, but using ATVs requires a winch system to traverse the large culvert failure. Nearly the entire length of Bog Creek Road is now overgrown with alder brush, small trees, and other vegetation.

Without access to the Northern Border area via Bog Creek Road, CBP must use a lengthy detour to get to the border, including using state highways in Washington and Idaho and other forest roads. This alternative route is approximately 180 miles and adds approximately four hours one way (eight hours total) to CBP patrol response times.

Closing Additional Roads for Motorized Use

Bog Creek Road is located within the Blue-Grass Bear Management Unit (BMU) of the Selkirk Grizzly Bear Recovery Zone (SRZ) of the IPNF. The IPNF has been working since the late 1980s to create secure habitat for grizzly bears. For example, Bog Creek Road was closed in the late 1980s to allow for more effective management of grizzly bear habitat. The IPNF continues to manage habitat conditions of the SRZ. To further manage grizzly bear habitat conditions, in 2011, the IPNF issued a Record of Decision (ROD) for the Forest Plan Amendments for Motorized Access Management within the Selkirk and Cabinet-Yaak Grizzly Bear Recovery Zones (Access Amendment). The Access Amendment set motorized vehicle access and security standards in the zones to conserve and contribute to the recovery of grizzly bears, and to meet the agency's responsibilities under the Endangered Species Act (ESA). These standards limit the use of motorized vehicles within the Blue-Grass BMU area to a specified percentage of the land. By limiting high levels of human activity in the area, effective habitat can be created for grizzly bears. The ROD and accompanying biological opinion from the U.S. Fish and Wildlife Service require the standards in the Access Amendment to be met by 2019. Currently, the BMU is not meeting the motorized access standards set forth in the Access Amendment.

The status of all roads in the BMU area is of great interest to CBP since the entire Blue-Grass BMU is within 10 miles of the Northern Border. CBP needs good access to this area to execute its mission to protect the Northern Border. Because there are limited options regarding which roads to close for motorized use that meet the Access Amendment standards and the ESA, and which provide border access to CBP, the Agencies are working together to determine acceptable alternatives.

Purpose and Need for Action

The purpose and need of the proposed action is to provide improved east-west access across the Selkirk Mountains on National Forest System lands that would: (1) Enable CBP to execute its statutory mission to protect the U.S. Northern Border and provide for the safety of CBP and other law enforcement officers in carrying out their duties and (2) meet Access Amendment standards for motorized access in a grizzly bear habitat in the Blue-Grass BMU area.

Proposed Action

Repairs and Maintenance to Bog Creek Road

One aspect of the proposed action would involve the repair and maintenance of an approximately 5.6-mile section of the existing Bog Creek Road between Forest Road (FR) 1013 and FR 2450 within the Blue-Grass BMU of the SRZ of the IPNF. The road is located in the Selkirk Mountains in Boundary County, Idaho, within approximately two miles of the Canadian border.

The Agencies anticipate that the proposed action would likely involve replacing or repairing damaged culverts, grading and resurfacing areas that have been heavily eroded by surface water flows, infilling potholes, and removing protruding boulders. Although widening Bog Creek Road is not a part of the proposed action, there may be areas which no longer meet minimum width requirements and may require cut and fill work to achieve the desired road operating and safety standards. Trees and other vegetation within the roadway and to either side would likely be grubbed or cut back to facilitate safe vehicle passage.

The proposed action would also likely include gathering and transporting fill materials (riprap, mixed soil/rock, and crushed aggregate) from “borrow” pits to use in general resurfacing/fill and in installation of the culvert replacements. Some equipment would be needed to perform the repairs and maintenance, including a dozer, a grader, a hydraulic excavator, and a dump truck. In addition, several pickup trucks or SUVs would be needed to transport construction personnel to and from the area. The Agencies anticipate that upon completion of the proposed repairs and maintenance, the 5.6-mile section of Bog Creek Road would remain closed for public motorized use and would be limited to administrative use only.

Closing Additional Roads for Motorized Use

Another aspect of the proposed action would involve the closure of certain roads within the Blue-Grass BMU. Bog Creek Road is located in the Blue-Grass BMU within the SRZ. This BMU area is currently not meeting Access Amendment standards for motorized access in a grizzly bear habitat. The Agencies anticipate that other roads within the Blue-Grass BMU area would need to be closed for motorized use under this proposed action. The road closures would be necessary to mitigate the potential impacts to grizzly bear habitats associated with the repair and subsequent use of Bog Creek Road and to allow the Forest Service to meet the Access Amendment standards and its statutory obligations under the ESA. Because there are limited options regarding roads to close for motorized use to meet the Access Amendment standards, the Agencies are working together to determine alternatives that would meet CBP's requirements for border access as well as the Forest Service's requirements to comply with the Access Amendment standards and the ESA.

The Agencies have identified a preliminary list of roads that could be closed for motorized use. All of these roads are currently closed to public use and only open for limited administrative use. Roads that have been preliminarily identified for possible motorized closure include FR 2464 Upper, 2464 Lower, 1322, 1322A, 1013D, 1013C, 1388, 1388A, 2252, 636, and 2253. Approximately 26 miles of IPNF roads could be closed under the proposed action. As a part of the scoping process (discussed below), the Agencies are seeking further input on possible motorized road closure alternatives.

Lead and Cooperating Agencies

CBP and the Forest Service will work together as joint lead agencies on the EIS.

Responsible Official

The Executive Director, Facilities Management & Engineering, CBP, is the deciding official for CBP and the Forest Supervisor, IPNF, Forest Service, is the deciding official for the Forest Service.

Public Scoping Process

Public scoping for the Bog Creek Road repair and maintenance proposal was initially conducted by CBP in February and March of 2013. Information gathered from the previous scoping effort was used to inform the Agencies about what level of NEPA analysis was necessary to evaluate the proposed project. The initial scoping information included the possibility that road closures may become part of the proposed action, but did not include specific motorized road closure information. Using initial scoping information, the Agencies determined that the NEPA analysis would be conducted through an EIS process. All scoping comments submitted during the initial scoping will be included in issue development for the current EIS process. A Scoping Report that summarizes the initial scoping effort is available for review at http://www.cbp.gov/about/environmental-cultural-stewardship/nepa-documents/docs-review.

This Notice of Intent (NOI) initiates the public scoping process which will guide the development of the EIS. All interested parties are invited to participate in the scoping process. CBP and the Forest Service invite agencies, organizations, and the general public to provide input to this process of scoping environmental issues for consideration in the EIS. Written comments may be submitted as described in the ADDRESSES section of this document. When submitting comments, please include your name and address. Comments received in response to this solicitation, including names and addresses of those who comment, will be part of the public record for this proposed action. Comments submitted anonymously will also be accepted and considered.

After the public scoping period is complete and the Agencies have reviewed the results, a compilation list of comments will be included in an amendment to the initial Scoping Report (described above). The amended Scoping Report will be made available on the CBP public Web site: http://www.cbp.gov/about/environmental-cultural-stewardship/nepa-documents/docs-review.

Public Involvement in Historic Preservation Activities Under Section 106 of the National Historic Preservation Act

Section 106 of the National Historic Preservation Act (54 U.S.C. 306108) requires Federal agencies to review all actions which may affect resources listed on, or eligible for, the National Register of Historic Places in order to take into account the effects of their undertakings on historic properties, and to afford the Idaho State Historic Preservation Officer and tribal governments a reasonable opportunity to comment on such undertakings. During the process of public scoping and preparation of the EIS, the Agencies seek to identify interested parties and obtain public comments on historic preservation issues related to the road repair and closure of roads for motorized use.

Preliminary Issues

Based upon the initial project scoping, some preliminary issues have been identified as potential effects of the proposed project. These include effects on:

• Border security;

• threatened and endangered species including grizzly bear, caribou, lynx, and bull trout;

• Blue-Grass BMU grizzly bear core habitat requirement;

• National Forest access; and

• biological resources including fisheries, wildlife, sensitive plants, and noxious weeds.

Permits and Licenses Required

The proposed project would likely require a Clean Water Act Section 404 Permit. The Agencies will work with the Idaho Department of Environmental Quality and the U.S. Army Corps of Engineers to determine the necessary permit process. All required permits would be obtained prior to project implementation.

Next Steps

In accordance with NEPA, the draft EIS will be made available to the public for review and comment through a Notice of Availability (NOA) in the Federal Register. The NOA will provide directions for obtaining copies of the draft EIS as well as dates and locations for any associated public participation meetings. After a public comment period on the draft EIS, CBP and the Forest Service will complete a final EIS.

Dated: April 21, 2016.
Karl H. Calvo,
Executive Director, Facilities Management and Engineering, Office of Administration.
Shanda Fallau Dekome,
Acting Forest Supervisor, Idaho Panhandle National Forests, U.S. Forest Service.

[FR Doc. 2016-09790 Filed 4-26-16; 8:45 am]

BILLING CODE 9111-14-P